DEPARTMENT OF JUSTICE

Office of Justice Programs

Agency Information Collection Activities; Comment Request

ACTION: Notice of information collection under review; Reinstatement with changes of a previously approved collection for which approval has expired: Survey of inmates in local jails pretest.

The Department of Justice, Office of Justice Programs, has submitted the following information collection request for review and clearance in accordance with the Paperwork Reduction Act of 1995. Office of Management and Budget approval is being sought for the information collection listed below. This proposed collection was previously published in the Federal Register on October 19, 2000, volume 65, page 62750, allowing for a 60-day public comment period.

The purpose of this notice is to allow an additional 30 days for public comments, until February 26, 2001. This process is conducted in accordance with 5 CFR 1320.10.

Written comments and/or suggestions from the public and affected agencies concerning the proposed collection of information should address one or more of the following four points;

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of collection of information on those who are to respond, including through the use of appropriate automated, electronic mechanical, or other technological collection techniques or other forms of information technology, e.g., permitting electronic submissions of responses.

Overview of This Information Collection

(1) Type of information collection: Reinstatement with changes of a previously approved collection for which approval has expired.

(2) The title of the Form/Collection: The Survey of Inmates in Local Jails Pretest.

(3) The agency form number and the applicable component of the Department sponsoring the collection: Forms: SIJ-43(X) CAPI instrument; and SIJ-50(X) Sampling Questionnaire. Collections Statistics, Bureau of Justice Statistics, Office of Justice Programs, United States Department of Justice.

(4) Affected public who will be asked to respond, as well as a brief abstract: Primary: Individuals and households. Others: State and local governments. The pretest will include an estimated 100 personal interviews with inmates held in local facilities. The pretest will approximate the national survey including a full scale implementation of the CAPI questionnaire, automated data control systems, sample selection instruments, and procedures related to the National Survey. This is a pretest for a survey that will profile jail inmates nationwide to determine trends in inmate composition, criminal history, drug abuse, mental and medical status, gun use and crime, and to report on victims of crime. This pretest will allow us to identify problems and to make improvements prior to the national survey to ensure an accurate data set. The data from the national survey will be used by the Bureau of Justice Statistics in published reports and the U.S. Congress, Executive Office of the President, practitioners, researchers, students, the media, and others interested in criminal justice statistics. No other collection series provides these data.

(5) An estimate of the total number of respondents and the amount of time needed for an average respondent to respond: 100 personal interviews each taking an average of 1 hour to respond.

(6) An estimate of the total public burden (in hours) associated with the collection: 100 annual burden hours.

If you have additional comments, suggestions, or need a copy of the proposed information collection instrument with instruction, or additional information, please contact Ms. Brenda E. Dyer, Deputy Clearance Officer, United States Department of Justice, Information Management and Security Staff, Justice Management Division, Suite 1220, National Place, 1331 Pennsylvania Avenue, NW., Washington, DC 20530.

Dated: January 18, 2001.
Brenda E. Dyer,
Department Deputy Clearance Officer, Department of Justice.

[FR Doc. 01-2229 Filed 1-24-01; 8:45 am]

BILLING CODE 4410-18-M